DEPARTMENT OF THE INTERIOR

National Park Service

[NPS-WASO-NRNHL-12621; PPWOCRADI0, PCU00RP14.R50000]

National Register of Historic Places; Notification of Pending Nominations and Related Actions

Nominations for the following properties being considered for listing or related actions in the National Register were received by the National Park Service before March 16, 2013. Pursuant to § 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 25, 2013. Before including your address, phone number, email address, or other personal identifying information in your comment, you should be aware that your entire comment—including your personal identifying information—may be made publicly available at any time. While you can ask us in your comment to withhold your personal identifying information from public review, we cannot guarantee that we will be able to do so.

Dated: March 20, 2013.
J. Paul Loether,
Chief, National Register of Historic Places/National Historic Landmarks Program.

DISTRICT OF COLUMBIA

District of Columbia

Park View School, (Public School Buildings of Washington, DC MPS), 3570 Warder St., NW., Washington, 13000213

GEORGIA

Crawford County

The Georgia Post Building, 100 GA 42 S., Knoxville, 13000214

Fulton County

Goodrum, May Patterson, House, 320 West Paces Ferry Rd., NW., Atlanta, 13000215

KANSAS

Ford County

Boot Hill Museum, (Roadside Kansas MPS), 500 W. Wyatt Earp Blvd., Dodge City, 13000216

Dodge City Municipal Building, 501 W. Spruce St., Dodge City, 13000217

Sedgwick County

Commodore Apartment Hotel, (Residential Resources of Wichita, Sedgwick County, Kansas 1870-1957 MPS), 222 E. Elm St., 601 N. Broadway Ave., Wichita, 13000218

Fourth National Bank Building, 100-110 N. Market St., Wichita, 13000219

Westside IOOF Lodge, 928-930 W. Douglas Ave., Wichita, 13000220

Woolf Brothers Clothing Company, 135 E. Douglas St., Wichita, 13000221

Washington County

Wayland, John F., House, 317 E. 6th St., Washington, 13000222

MISSOURI

Crawford County

Cuba High School Annex, 308 N. Smith St., Cuba, 13000223

MONTANA

Meagher County

Stockmen's Bank of Martinsdale, 9 Main St., Martinsdale, 13000224

NEW YORK

Wyoming County

Attica Market and Main Historic District, 2-28 & 19-45 Market St., 2-10 & 21-39 Main St., Attica, 13000225

NORTH CAROLINA

Avery County

Lowe, Robert Chester and Elsie H., House, 1010 Shawneehaw Ave., Banner Elk, 13000226

Burke County

Dunavant Cotton Manufacturing Company, 109 E. Fleming Dr., Morganton, 13000227

Haywood County

Francis Grist Mill, 14 Hugh Massie Rd., Waynesville, 13000228

NORTH DAKOTA

Billings County

32BI272, (Native American Occupation and Utilization of the Little Missouri River Grasslands MPS), Address Restricted, Fairfield, 13000229

32BI503, (Native American Occupation and Utilization of the Little Missouri River Grasslands MPS), Address Restricted, Fairfield, 13000230

Anderson Divide Archeological District, (Native American Occupation and Utilization of the Little Missouri River Grasslands MPS), Address Restricted, Fairfield, 13000231

McKenzie County

32MZ1005, (Native American Occupation and Utilization of the Little Missouri River Grasslands MPS), Address Restricted, Grassy Butte, 13000236

32MZ1647, (Native American Occupation and Utilization of the Little Missouri River Grasslands MPS) Address Restricted, Grassy Butte, 13000237

32MZ173, (Native American Occupation and Utilization of the Little Missouri River Grasslands MPS), Address Restricted, Charlson, 13000232

32MZ333, (Native American Occupation and Utilization of the Little Missouri River Grasslands MPS), Address Restricted, Alexander, 13000233

32MZ422, (Native American Occupation and Utilization of the Little Missouri River Grasslands MPS), Address Restricted, Grassy Butte, 13000234

32MZ732, (Native American Occupation and Utilization of the Little Missouri River Grasslands MPS), Address Restricted, Charlson, 13000235

Cinnamon Creek Ridge Archeological District, (Native American Occupation and Utilization of the Little Missouri River Grasslands MPS), Address Restricted, Arnegard, 13000238

WYOMING

Laramie County

Cheyenne Veterans Administration Hospital Historic District, (United States Second Generation Veterans Hospitals MPS), 2360 Pershing Blvd., Cheyenne, 13000239

A request to move has been made for the following resource:

NORTH CAROLINA

Wake County

Jones, Crabtree, House, N. of Raleigh off Old Wake Forest Rd., Raleigh, 73001376

[FR Doc. 2013-08281 Filed 4-9-13; 8:45 am]

BILLING CODE 4312-51-P